DEPARTMENT OF JUSTICE

Antitrust Division

Notice Pursuant to the National Cooperative Research and Production Act of 1993—Telematics Suppliers Consortium, Inc.

Notice is hereby given that, on March 12, 1999, pursuant to section 6(a) of the National Cooperative Research and Production Act of 1993, 15 U.S.C. 4301 et seq. (“the Act“), Telematics Suppliers Consortium, Inc. has filed written notifications simultaneously with the Attorney General and the Federal Trade Commission disclosing (1) The identities of the parties and (2) the nature and objective of the venture. The notifications were filed for the purpose of invoking the Act's provisions limiting the recovery of antitrust plaintiffs to actual damages under specified circumstances. Pursuant to Section 6(b) of the Act, the identities of the parties are Alpine Electronics of America, Inc., Torrance, CA; AMP Inc., Harrisburg, PA; Cellport Labors Inc., Boulder, CO; Ford Motor Company, Dearborn, MI; Kenwood Corp., Tokyo, JAPAN; and Motorola Inc., Schaumburg, IL. The nature and objectives of the venture are to promote the development and adoption of open, accessible, secure, end to end technical specification (“Telematics Specifications“) permitting the transaction of data to and from, as well as within, automobiles and other vehicles; to promote such specifications and solutions worldwide to ensure that a broad spectrum of goods and services is developed and are available to provide for testing and conformity assessment of network components in order to ensure robust system operation; to create and own distinctive trademarks; and to operate a branding program based upon distinctive trademarks to create high customer awareness of, demand for, and confidence in products designed in compliance with Telematics Specification.

Constance K. Robinson,
Director of Operations, Antitrust Division.

[FR Doc. 00-16484 Filed 6-28-00; 8:45 am]

BILLING CODE 4410-11-M